DEPARTMENT OF TRANSPORTATION

Federal Aviation Administration

14 CFR Part 39

[Docket No. 2000-NM-06-AD; Amendment 39-11778; AD 2000-11-29]

RIN 2120-AA64

Airworthiness Directives; Fokker Model F27 Mark 050, 100, 200, 300, 400, 500, 600, and 700 Series Airplanes; and Model F28 Mark 0070, 0100, 1000, 2000, 3000, and 4000 Series Airplanes

AGENCY: Federal Aviation Administration, DOT.

ACTION: Final rule.

SUMMARY: This amendment adopts a new airworthiness directive (AD), applicable to certain Fokker Model F27 Mark 050, 100, 200, 300, 400, 500, 600, and 700 series airplanes, and Model F28 Mark 0070, 0100, 1000, 2000, 3000, and 4000 series airplanes, that requires a one-time functional test to verify correct installation of the shoulder harnesses of the pilot's and co-pilot's seats and, if necessary, replacement of the shoulder harness assembly with a new or serviceable shoulder harness assembly. This amendment is prompted by issuance of mandatory continuing airworthiness information by a foreign civil airworthiness authority. The actions specified by this AD are intended to prevent failure of the shoulder harness, which could result in injury to the flight crew during extremely turbulent flight conditions or during emergency landing or stopping conditions.

DATES: Effective July 19, 2000.

The incorporation by reference of certain publications listed in the regulations is approved by the Director of the Federal Register as of July 19, 2000.

ADDRESSES: The service information referenced in this AD may be obtained from Fokker Services B.V., P.O. Box 231, 2150 AE Nieuw-Vennep, the Netherlands. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, Transport Airplane Directorate, 1601 Lind Avenue, SW., Renton, Washington 98055-4056; telephone (425) 227-2110; fax (425) 227-1149.

SUPPLEMENTARY INFORMATION: A proposal to amend part 39 of the Federal Aviation Regulations (14 CFR part 39) to include an airworthiness directive (AD) that is applicable to certain Fokker Model F27 Mark 050, 100, 200, 300, 400, 500, 600, and 700 series airplanes, and Model F28 Mark 0070, 0100, 1000, 2000, 3000, and 4000 series airplanes was published in the Federal Register on February 17, 2000 (65 FR 8075). That action proposed to require a one-time functional test to verify correct installation of the shoulder harnesses of the pilot's and co-pilot's seats and replacement of an incorrectly installed shoulder harness assembly with a new or serviceable shoulder harness assembly.

Comments Received

Interested persons have been afforded an opportunity to participate in the making of this amendment. Due consideration has been given to the comments received.

No Objection to the Proposal

One commenter, an operator, states that it has already accomplished the proposed testing, and therefore has no comments regarding the proposed rule.

Request for Revision to Applicability

One commenter, an operator, requests that the proposed AD be revised to limit the applicability to shoulder harnesses that have been repaired by agencies other than the original equipment manufacturer (OEM) of the harness. The commenter states that the failure described in the proposed AD was a one-time, isolated occurrence, and that the harness is used on multiple fleets, all of which have been operating without report from any operator of such malfunctions. The commenter also states that Pacific Scientific, the OEM, has assured the commenter that all new and repaired or remanufactured harnesses cannot disengage from the reel “without a catastrophic failure of the webbing.” Since the commenter receives all harnesses in sealed bags in new condition, any tampering prior to installation that could cause failure of the harness would be detectable.

The FAA does not concur. The FAA acknowledges that the investigations that prompted the proposed AD revealed improper repairs of the shoulder harness assemblies accomplished by a maintenance company rather than the shoulder harness OEM. Further discussions with the Rijksluchtvaartdienst (RLD), which is the airworthiness authority for the Netherlands, have revealed that only one maintenance company was involved, and that the faulty shoulder harnesses, of the 0108900 series, had been installed only on Fokker Model F27 and F28 series airplanes. However, the RLD also advises that it was not possible to trace all harness assemblies that had been repaired in the past by the maintenance company; therefore, it cannot be determined with any certainty how many other airplanes have these faulty harness assemblies installed.

The FAA notes that even if it could be determined definitively whether the installed shoulder harnesses have ever been repaired in the past by someone other than the shoulder harness OEM, which would require a review of complete maintenance records for each shoulder harness, such records may not be available for airplanes transferred from another operator. Additionally, the FAA considers that the time required for such a review would likely be greater than that for the one-time functional test of the harnesses specified in the proposed AD. No change is made to the final rule. However, under the provisions of paragraph (b) of the AD, the FAA may approve requests for an alternative method of compliance if substantiating data (such as verification that the shoulder harness maintenance records show that only OEM repairs were made) are submitted to justify use of that method.

Statement of Unsafe Condition

One commenter notes that the statement of the unsafe condition in the Summary, Discussion, and Compliance sections of the proposed AD deviates from the description provided in Dutch airworthiness directive BLA 1999-139(A), dated October 29, 1999. The commenter suggests that the statement should be revised as follows: “* * * which could result in injury to the flight crew during extremely turbulent flight conditions or during emergency landing/stop conditions.” The commenter states that this wording gives a better defined description of the situations in which separation of the shoulder harness from the seat could occur.

The FAA acknowledges that the wording suggested by the commenter provides a slightly more precise description of the unsafe condition intended to be addressed by this AD. The Discussion section of the AD is not repeated in the final rule, but the FAA has revised the Summary and Compliance sections of the AD accordingly.

Type Certificate Holder

The same commenter requests that the Explanation of Relevant Service Information section of the AD be revised to refer to Fokker Services B.V., rather than the now defunct airplane manufacturer, as the current type certificate holder. The commenter advises that Fokker Services B.V is the issuer of the relevant service information. The FAA acknowledges the accuracy of this information; however, since this section is not repeated in the final rule, no change is made to the AD.

Other Change to the AD

Since issuance of the proposed AD, Fokker Services B.V. has issued Service Bulletin SBF27/25-65, Revision 1, dated March 1, 2000. The original issue of this service bulletin, dated October 14, 1999, is referenced in the proposed AD as the appropriate source of service information for Model F27 Mark 100, 200, 300, 400, 500, 600, and 700 series airplanes. The procedures in Revision 1 are essentially the same as those in the original, with certain information contained in the maintenance manual for accomplishment of the functional test added to the service bulletin. Paragraph (a)(2) of the AD has been revised to reference Revision 1 of the service bulletin, and a “NOTE” has been added to the AD to give credit to operators that may have accomplished the required actions in accordance with the original issue of the service bulletin.

Conclusion

After careful review of the available data, including the comments noted above, the FAA has determined that air safety and the public interest require the adoption of the rule with the changes described previously. The FAA has determined that these changes will neither increase the economic burden on any operator nor increase the scope of the AD.

Cost Impact

The FAA estimates that 191 airplanes of U.S. registry will be affected by this AD, that it will take approximately 1 work hour per airplane to accomplish the required functional test, and that the average labor rate is $60 per work hour. Based on these figures, the cost impact of the AD on U.S. operators is estimated to be $11,460, or $60 per airplane.

The cost impact figure discussed above is based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-11-29 Fokker Services B.V.: Amendment 39-11778. Docket 2000-NM-06-AD.

Applicability: Model F27 Mark 050, 100, 200, 300, 400, 500, 600, and 700 series airplanes; and Model F28 Mark 0070, 0100, 1000, 2000, 3000, and 4000 series airplanes; certificated in any category; on which any Pacific Scientific Model 0108900 series flight crew shoulder harness assembly is installed.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent failure of the shoulder harness, which could result in injury to the flight crew during extremely turbulent flight conditions or during emergency landing or stopping conditions, accomplish the following:

Functional Test

(a) Within 6 months after the effective date of this AD, perform a one-time functional test to verify correct installation of the shoulder harnesses of the pilot's and co-pilot's seats, in accordance with paragraph (a)(1), (a)(2), (a)(3), or (a)(4) of this AD, as applicable. If any shoulder harness is incorrectly installed, prior to further flight, replace the shoulder harness assembly with a new or serviceable shoulder harness assembly, in accordance with paragraph (a)(1), (a)(2), (a)(3), or (a)(4) of this AD, as applicable.

(1) For Model F27 Mark 050 series airplanes: Accomplish the actions in accordance with Fokker Service Bulletin SBF50-25-051, dated October 14, 1999.

(2) For Model F27 Mark 100, 200, 300, 400, 500, 600, and 700 series airplanes: Accomplish the actions in accordance with Fokker Service Bulletin SBF27/25-65, Revision 1, dated March 1, 2000.

(3) For Model F28 Mark 0070 and 0100 series airplanes: Accomplish the actions in accordance with Fokker Service Bulletin SBF100-25-088, dated October 14, 1999.

(4) For Model F28 Mark 1000, 2000, 3000, and 4000 series airplanes: Accomplish the actions in accordance with Fokker Service Bulletin SBF28/25-103, dated October 14, 1999.

Note 2: Accomplishment of the actions in accordance with Fokker Service Bulletin SBF27/25-65, dated October 14, 1999, is acceptable for compliance with the requirements of paragraph (a)(2) of the AD.

Alternative Methods of Compliance

(b) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 3: Information concerning the existence of approved alternative methods of compliance with this AD, if any, may be obtained from the International Branch,ANM-116.

Special Flight Permits

(c) Special flight permits may be issued in accordance with sections 21.197 and 21.199 of the Federal Aviation Regulations (14 CFR 21.197 and 21.199) to operate the airplane to a location where the requirements of this AD can be accomplished.

Incorporation by Reference

(d) The actions shall be done in accordance with Fokker Service Bulletin SBF50-25-051, dated October 14, 1999; Fokker Service Bulletin SBF27/25-65, Revision 1, dated March 1, 2000; Fokker Service Bulletin SBF100-25-088, dated October 14, 1999; or Fokker Service Bulletin SBF28/25-103, dated October 14, 1999; as applicable. Fokker Service Bulletin SBF27/25-65, Revision 1, dated March 1, 2000, contains the following list of effective pages:

Page number | Revision level shown on page | Date shown on page
1, 4-6 | 1 | March 1, 2000.
2-3 | Original | October 14, 1999.

This incorporation by reference was approved by the Director of the Federal Register in accordance with 5 U.S.C. 552(a) and 1 CFR part 51. Copies may be obtained from Fokker Services B.V., P.O. Box 231, 2150 AE Nieuw-Vennep, the Netherlands. Copies may be inspected at the FAA, Transport Airplane Directorate, 1601 Lind Avenue, SW., Renton, Washington; or at the Office of the Federal Register, 800 North Capitol Street, NW., suite 700, Washington, DC.

Note 4: The subject of this AD is addressed in Dutch airworthiness directive BLA 1999-139 (A), dated October 29, 1999.

(e) This amendment becomes effective on July 19, 2000.

Issued in Renton, Washington, on June 6, 2000.
Donald L. Riggin,
Acting Manager, Transport Airplane Directorate, Aircraft Certification Service.

[FR Doc. 00-14792 Filed 6-13-00; 8:45 am]

BILLING CODE 4910-13-P